DEPARTMENT OF COMMERCE

National Oceanic and Atmospheric Administration

50 CFR Part 622

[I.D. 111405B]

Fisheries of the Caribbean, Gulf of Mexico, and South Atlantic; Reef Fish Fishery of the Gulf of Mexico; Closure of the 2005 Tilefish Commercial Fishery

AGENCY: National Marine Fisheries Service (NMFS), National Oceanic and Atmospheric Administration (NOAA), Commerce.

ACTION: Closure.

SUMMARY: NMFS closes the commercial fishery for tilefish (goldface tilefish, blackline tilefish, anchor tilefish, blueline tilefish, and tilefish) in the exclusive economic zone (EEZ) of the Gulf of Mexico. NMFS has determined that the tilefish quota for the commercial fishery will have been reached by November 21, 2005. This closure is necessary to protect the tilefish resource.

DATES: Closure is effective 12:01 a.m., local time, November 21, 2005, until 12:01 a.m., local time, on January 1, 2006.

FOR FURTHER INFORMATION CONTACT: Jason Rueter, telephone 727-824-5350, fax 727-824-5308, e-mail Jason.Rueter@noaa.gov.

SUPPLEMENTARY INFORMATION: The reef fish fishery of the Gulf of Mexico is managed under the Fishery Management Plan for the Reef Fish Resources of the Gulf of Mexico (FMP). The FMP was prepared by the Gulf of Mexico Fishery Management Council and is implemented under the authority of the Magnuson-Stevens Fishery Conservation and Management Act by regulations at 50 CFR part 622. Those regulations set the commercial quota for tilefish in the Gulf of Mexico at 0.44 million lb (200,000 kg) for the current fishing year, January 1 through December 31, 2005.

Under 50 CFR 622.43(a), NMFS is required to close the commercial fishery for a species or species group when the quota for that species or species group is reached, or is projected to be reached, by filing a notification to that effect in the Federal Register. Based on current statistics, NMFS has determined that the available commercial quota of 0.44 million lb (200,000 kg) for tilefish will be reached on or before November 21, 2005. Accordingly, NMFS is closing the commercial tilefish fishery in the Gulf of Mexico EEZ from 12:01 a.m., local time, on November 21, 2005, until 12:01 a.m., local time, on January 1, 2006. The operator of a vessel with a valid reef fish permit having tilefish aboard must have landed and bartered, traded, or sold such tilefish prior to 12:01 a.m., local time, November 21, 2005.

During the closure, the bag and possession limits specified in 50 CFR 622.39(b) apply to all harvest or possession of tilefish in or from the Gulf of Mexico EEZ, and the sale or purchase of tilefish taken from the EEZ is prohibited. The prohibition on sale or purchase does not apply to sale or purchase of tilefish that were harvested, landed ashore, and sold prior to 12:01 a.m., local time, November 21, 2005, and were held in cold storage by a dealer or processor.

Classification

This action responds to the best available information recently obtained from the fishery. The Assistant Administrator for Fisheries, NOAA, finds that the need to immediately implement this action to close the fishery constitutes good cause to waive the requirements to provide prior notice and opportunity for public comment pursuant to the authority set forth in 5 U.S.C. 553(b)(3)(B), as such procedures would be unnecessary and contrary to the public interest. These procedures are unnecessary because the regulation requiring the closure has been subject to notice and comment, and all that remains is to notify the public of the closure. For these same reasons, there is good cause that the implementation of this action cannot be delayed for 30 days. Accordingly, under 5 U.S.C. 553(d)(3), a delay in the effective date is waived.

This action is required by 50 CFR 622.43(a) and is exempt from review under Executive Order 12866.

Authority: 16 U.S.C. 1801 et seq.

Dated: November 15, 2005.
Alan D. Risenhoover,
Acting Director, Office of Sustainable Fisheries, National Marine Fisheries Service.

[FR Doc. 05-22901 Filed 11-15-05; 2:16 pm]

BILLING CODE 3510-22-P